DEPARTMENT OF THE INTERIOR

National Park Service

[NPS-WASO-NAGPRA-13893; PPWOCRADN0-PCU00RP14.R50000]

Notice of Inventory Completion: U.S. Department of the Interior, National Park Service, Tumacacori National Historical Park, Tumacacori, AZ; Correction

AGENCY: National Park Service, Interior.

ACTION: Notice; correction.

SUMMARY: The U.S. Department of the Interior, National Park Service, Tumacacori National Historical Park has corrected an inventory of human remains and associated funerary objects published in a Notice of Inventory Completion in the Federal Register on July 7, 2009. This notice corrects the number of associated funerary objects. Transfer of control of the items in this correction notice has occurred.

ADDRESSES: Bob Love, Superintendent, Tumacacori National Historical Park, P.O. Box 8067, Tumacacori, AZ 85640, telephone (520) 398-2341 Ext. 52, email bob_love@nps.gov.

SUPPLEMENTARY INFORMATION: Notice is here given in accordance with the Native American Graves Protection and Repatriation Act (NAGPRA), 25 U.S.C. 3003, of the correction of an inventory of human remains and associated funerary objects under the control of Tumacacori National Historical Park, Tumacacori, AZ. The human remains and associated funerary objects were removed from areas near Tumacacori Mission, Santa Cruz County, AZ.

This notice is published as part of the National Park Service's administrative responsibilities under NAGPRA, 25 U.S.C. 3003(d)(3). The determinations in this notice are the sole responsibility of the Superintendent, Tumacacori National Historical Park.

This notice corrects the number of associated funerary objects published in a Notice of Inventory Completion in the Federal Register (74, FR 32184-32185, July 7, 2009). After publication, one additional associated funerary object was found. Transfer of control of the items in this correction notice has occurred.

Correction

In the Federal Register (74, FR 32184-32185, July 7, 2009), the following paragraph is inserted after paragraph six:

In the 1930s, one cremation jar was removed from an unknown location near Tumacacori in Santa Cruz County, AZ by custodian George Boundey. It is believed that this jar was associated with the individuals removed in 1934 and 1935 described above.

In the Federal Register (74, FR 32184-32185, July 7, 2009), paragraph 13, sentence 2 is corrected by substituting the following sentence:

Officials of Tumacacori National Historical Park also have determined that, pursuant to 25 U.S.C. 3001 (3)(A), the 84 objects described above are reasonably believed to have been placed with or near individual human remains at the time of death or later as part of the death rite or ceremony.

Additional Requestors and Disposition

Transfer of control of the human remains and associated funerary objects occurred after the 30 day waiting period expired for the original July 7, 2009 Notice of Inventory Completion. For questions related to this notice, contact Bob Love, Superintendent, Tumacacori National Historical Park, P.O. Box 8067, Tumacacori, AZ 85640, telephone (520) 398-2341 Ext. 52, email bob_love@nps.gov.

Tumacacori National Historical Park is responsible for notifying the Ak Chin Indian Community of the Maricopa (Ak Chin) Indian Reservation, Arizona; Fort Sill Apache Tribe of Oklahoma; Gila River Indian Community of the Gila River Indian Reservation, Arizona; Hopi Tribe of Arizona; Jicarilla Apache Nation, New Mexico; Mescalero Apache Tribe of the Mescalero Reservation, New Mexico; Pascua Yaqui Tribe of Arizona; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; and Zuni Tribe of the Zuni Reservation, New Mexico that this notice has been published.

Dated: August 21, 2013.
Sherry Hutt,
Manager, National NAGPRA Program.

[FR Doc. 2013-23797 Filed 9-27-13; 8:45 am]

BILLING CODE 4312-50-P